DEPARTMENT OF TRANSPORTATION

Office of the Secretary

Application of Rhoades Aviation, Inc. d/b/a Transair for Certificate Authority

AGENCY: Department of Transportation.

ACTION: Notice of Order to Show Cause (Order 2013-1-13), Dockets DOT-OST-2011-0216 and DOT-OST-2012-0129.

SUMMARY: The Department of Transportation is directing all interested persons to show cause why it should not issue orders finding Rhoades Aviation, Inc. d/b/a Transair, fit, willing, and able, and to provide interstate and foreign charter air transportation of property and mail, using one large aircraft.

DATES: Persons wishing to file objections should do so no later than February 1, 2013.

ADDRESSES: Objections and answers to objections should be filed in Dockets DOT-OST-2011-0216 and DOT-OST-2012-0129 and addressed to U.S. Department of Transportation, Docket Operations, (M-30, Room W12-140), 1200 New Jersey Avenue SE., West Building Ground Floor, Washington, DC 20590, and should be served upon the parties listed in Attachment A to the order.

FOR FURTHER INFORMATION CONTACT: Reese Davidson, Air Carrier Fitness Division (X-56, Room W86-469), U.S. Department of Transportation, 1200 New Jersey Avenue SE., Washington, DC 20590, (202) 366-8161.

Dated: January 22, 2013.
Susan L. Kurland,
Assistant Secretary for Aviation and International Affairs.

[FR Doc. 2013-01862 Filed 1-30-13; 8:45 am]

BILLING CODE P